DEPARTMENT OF THE INTERIOR

Bureau of Land Management

[17X LLAK980600.L1820000.XX0000.LXSIARAC0000]

Notice of Public Meeting, BLM Alaska Resource Advisory Council

AGENCY: Bureau of Land Management, Alaska State Office, Interior.

ACTION: Notice of public meeting.

SUMMARY: In accordance with the Federal Land Policy and Management Act of 1976 as amended (FLPMA) and the Federal Advisory Committee Act of 1972 (FACA), the Bureau of Land Management (BLM) Alaska Resource Advisory Council (RAC) will meet as indicated below.

DATES: The meeting will be held February 2-3, 2017, at the BLM Alaska Fairbanks District Office, 220 University Avenue, Fairbanks, Alaska 99709-3844. The meeting starts at 9 a.m. in the Kobuk Conference Room and will adjourn at noon on February 3. The council will accept comments from the public from 11 a.m. to noon on February 2.

FOR FURTHER INFORMATION CONTACT: Lesli Ellis-Wouters, BLM Alaska State Office, 222 W. 7th Avenue #13, Anchorage, AK 99513; lellis@blm.gov; 907-271-4418. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: The 15-member council advises the Secretary of the Interior, through the BLM, on a variety of planning and management issues associated with public land management in Alaska. At this meeting, the Council will receive updates on BLM mitigation, discuss preliminary alternative concepts for the Central Yukon Resource Management Plan, review the newly released Planning 2.0 program, and receive a report and recommendations from the placer mining subcommittee. An agenda will be posted to the BLM Alaska Web site (https://www.blm.gov/get-involved/resource-advisory-council/near-you/alaska/rac) by January 26, 2017.

All meetings are open to the public. During the public comment period, depending upon the number of people wishing to comment, time for individual oral comments may be limited. Please be prepared to submit written comments. Before including your address, phone number, email address, or other personal identifying information in your comment, you should be aware that your entire comment—including your personal identifying information—may be made publicly available at any time. While you can ask us in your comment to withhold your personal identifying information from public review, we cannot guarantee that we will be able to do so.

Individuals who plan to attend and need special assistance, such as sign language interpretation, transportation, or other reasonable accommodations, should contact the BLM RAC Coordinator listed above.

Dated: December 20, 2016.
Bud Cribley,
State Director.

[FR Doc. 2016-31654 Filed 12-28-16; 8:45 am]

BILLING CODE 4310-JA-P